DEPARTMENT OF TRANSPORTATION

Federal Aviation Administration

Notice of Availability of Draft Alaska National Interest Lands Conservation Act (ANILCA) Section 810 Subsistence Evaluation.

AGENCY: Federal Aviation Administration (FAA), DOT.

ACTION: Notice of availability and request for comments.

SUMMARY: The FAA announces the availability and request for comments of a draft ANILCA Section 810 Subsistence Evaluation for proposed improvements to the runway safety areas at the Kodiak Airport, Kodiak, Alaska.

DATES: Comments must be received on or before March 29, 2013.

ADDRESSES: You may submit comments or request for copies or more information by any of the following methods:

1. Web Site: Download a copy of the draft Section 810 Subsistence Evaluation or full Draft EIS document at: http://www.kodiakairporteis.com

2. Email: Leslie.Grey@faa.govmailto:izembek_eis@fws.gov; include “Kodiak Airport EIS ANILCA comments” in the subject line of the message.

3. Fax: Attn: Leslie Grey, AAL-614, (907) 271-2851

4. U.S. Mail: Leslie Grey—AAL-614, Federal Aviation Administration, Airports Division, 222 West 7th Avenue, Box #14, Anchorage, AK 99513.

5. In-Person Pickup or Drop-off: To pick up a copy or drop off comments call or email Leslie Grey in advance.

FOR FURTHER INFORMATION CONTACT: Leslie Grey, AAL-614, Federal Aviation Administration, Alaskan Region, Airports Division, 222 W. 7th Avenue, Box #14, Anchorage, AK 99513. Ms. Grey may be contacted during business hours at (907) 271-5453 (phone) and (907) 271-2851 (Fax) or email Leslie.Grey@faa.gov.

SUPPLEMENTARY INFORMATION: Alternatives proposed as part of the Draft EIS as published in the Federal Register of October 23, 2012 (77 FR 64836) would require placement of fill on submerged lands jointly managed by the U.S. Coast Guard Kodiak Base Support Unit and the U.S. Fish and Wildlife Service Alaska Maritime National Wildlife Refuge.

Authority: 16 U.S.C. 3120; 16 U.S.C. 3164.

Issued in Anchorage, Alaska on February 21, 2013.
Annie Aquino-Bernaldo,
Acting Manager, Airports Division, Alaskan Region.

[FR Doc. 2013-04578 Filed 2-26-13; 8:45 am]

BILLING CODE 4910-13-P